DEPARTMENT OF ENERGY

Federal Energy Regulatory Commission

[Docket No. EL03-28-000]

Town of Wallingford, Connecticut, Department of Public Utilities, Electric Division; and Connecticut Municipal Electric Energy Cooperative; Complainants, v. Connecticut Light and Power Company; Select Energy, Inc.; and Northeast Utilities Service Company; Respondents; Notice of Complaint

December 5, 2002.

Take notice that on December 4, 2002, the Town of Wallingford, Connecticut, Department of Public Utilities, Electric Division and the Connecticut Municipal Electric Energy Cooperative (collectively, Complainants) filed with the Federal Energy Regulatory Commission (Commission) a Complaint against the Connecticut Light and Power Company (CL&P), its agent Select Energy, Inc. and the Northeast Utilities Service Company (collectively, Respondents). Complainants are seeking an immediate order from the Commission enforcing the provisions of a FERC-filed power sales agreement by directing CL&P to participate in a contractually mandated arbitration proceeding.

Respondents have been served with a copy of the Complaint.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before December 20, 2002. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31188 Filed 12-10-02; 8:45 am]

BILLING CODE 6717-01-P